FEDERAL TRADE COMMISSION

Delegation of Authority To Disclose Certain Nonpublic Information to Australian Law Enforcement Agencies

AGENCY: Federal Trade Commission.

ACTION: Delegation of Authority.

SUMMARY: The Commission has delegated authority to the Associate Director of the Division of Planning and Information to share certain non-public information with Australian agencies.

EFFECTIVE DATE: January 18, 2002.

FOR FURTHER INFORMATION CONTACT: Maneesha Mithal, Attorney, Division of Planning and Information, 202-326-2771, mmithal@ftc.gov.

SUPPLEMENTARY INFORMATION: Notice is hereby given, pursuant to Reorganization Plan No. 4 of 1961, 26 FR 6191, that the Commission has delegated to the Associate Director for Planning and Information the authority to disclose information contained in the Consumer Sentinel database of consumer complaints and law enforcement information to Australian law enforcement agencies. (The Commission has already delegated authority to the Associate Director for Planning and Information to share information, including information in Consumer Sentinel, with the Australian Competition and Consumer Commission. 65 FR 64,950 (Oct. 31, 2000). The current delegation is for sharing information in Consumer Sentinel with additional Australian agencies.)

This delegation does not apply to competition-related investigations. When exercising its authority under this delegation, staff will require from the relevant foreign law enforcement agency assurances of confidentiality. Disclosures shall be made only to the extent consistent with limitations on disclosure, including section 6(f) of the FTC Act, 15 U.S.C. 46(f), section 21 of the Act, 15 U.S.C. 57b-2, and Commission Rule 4.10(d), 16 CFR 4.10(d), and with the Commission's enforcement policies and other important interests.¹

¹ The Associate Director is responsible for ensuring the confidentiality of the information contained in the Consumer Sentinel Network and, in appropriate circumstances, for authorizing participants to make further disclosures of the material in response to requests for access or compulsory process.

By direction of the Commission.
Donald S. Clark,
Secretary.

[FR Doc. 02-2113 Filed 1-28-02; 8:45 am]

BILLING CODE 6750-01-M